DEPARTMENT OF COMMERCE

National Oceanic and Atmospheric Administration

RIN 0648-XH63

Permits; Foreign Fishing

AGENCY: National Marine Fisheries Service (NMFS), National Oceanic and Atmospheric Administration (NOAA), Commerce.

ACTION: Notice of receipt of foreign fishing application; request for comments.

SUMMARY: NMFS publishes for public review and comment information regarding a foreign fishing application submitted under provisions of the Magnuson-Stevens Fishery Conservation and Management Act (Magnuson-Stevens Act).

DATES: Comments must be received by May 30, 2008.

ADDRESSES: Send comments or requests for a copy of the application to NMFS, Office of International Affairs, 1315 East-West Highway, Silver Spring, MD 20910.

Comments on this notice may also be submitted by e-mail to nmfs.foreignfishing@noaa.gov. Include in the subject line the following document identifier: RIN 0648-XH63.

FOR FURTHER INFORMATION CONTACT: Christopher Rogers, Office of International Affairs, (301) 713-9090.

SUPPLEMENTARY INFORMATION:

Background

Section 204(d) of the Magnuson-Stevens Act (16 U.S.C. 1824(d)) provides, among other things, that the Secretary of Commerce (Secretary) may issue a transshipment permit which authorizes a vessel other than a vessel of the United States to engage in fishing consisting solely of transporting fish or fish products at sea from a point within the U.S. Exclusive Economic Zone (EEZ) or, with the concurrence of a state, within the boundaries of that state to a point outside the United States. In addition, Public Law 104-297, sec. 105(e) directs the Secretary to issue section 204(d) permits for up to 14 Canadian transport vessels to receive Atlantic herring harvested by United States fishermen within the boundaries of the State of Maine or within the portion of the EEZ east of the line 69 degrees 30 minutes west and within 12 nautical miles from the seaward boundary of that State.

Section 204(d)(3)(D) of the Magnuson-Stevens Act provides that an application may not be approved until the Secretary determines that “no owner or operator of a vessel of the United States which has adequate capacity to perform the transportation for which the application is submitted has indicated ... an interest in performing the transportation at fair and reasonable rates.” NMFS is publishing this notice as part of its effort to make such a determination with respect to the application described below.

Summary of Application

NMFS has received an application requesting authorization for 11 Canadian transport vessels to receive transfers of herring from U.S. purse harvesting vessels for the purpose of transporting the herring to processing plants in Canada. The transshipment operations will occur within the boundaries of the State of Maine or within the portion of the exclusive economic zone east of the line 69 degrees 30 minutes west and within 12 nautical miles from the seaward boundary of that State.

Interested U.S. vessel owners and operators may obtain a copy of the complete application from NMFS (see ADDRESSES).

Dated: May 9, 2008.
Rebecca Lent,
Director, Office of International Affairs, National Marine Fisheries Service.

[FR Doc. E8-11016 Filed 5-15-08; 8:45 am]

BILLING CODE 3510-22-S